DEPARTMENT OF COMMERCE

National Oceanic and Atmospheric Administration

Interagency Working Group on the Harmful Algal Bloom and Hypoxia Research and Control Amendments Act

AGENCY: National Ocean Service, National Oceanic and Atmospheric Administration, U.S. Department of Commerce.

ACTION: Notice, Webinars.

SUMMARY: The National Ocean Service (NOS) of the National Oceanic and Atmospheric Administration (NOAA) publishes this notice to announce town hall-style webinars to promote discussion between federal representatives and stakeholders on topics related to harmful algal blooms (HABs) and hypoxia occurring in the Great Lakes region. These webinars are being conducted in accordance with the Harmful Algal Bloom and Hypoxia Research and Control Amendments Act of 2014 (HABHRCA), which directs federal agencies to advance the understanding of HAB and hypoxia events, and to respond to, detect, predict, control, and mitigate these events to the greatest extent possible.

Through these webinars, the Interagency Working Group on HABHRCA (IWG-HABHRCA) seeks to engage a wide range of stakeholders in the Great lakes region, including scientists, resource managers, agricultural producers, commercial and recreational fishermen, other industry interests, international and non-profit organizations, and the interested public.

DATES: See SUPPLEMENTARY INFORMATION section for meeting dates.

ADDRESSES: See SUPPLEMENTARY INFORMATION section for meeting web addresses.

FOR FURTHER INFORMATION CONTACT: Caitlin Gould (Caitlin.gould@noaa.gov, 240-533-0290) or Stacey DeGrasse (Stacey.Degrasse@fda.hhs.gov, 240-402-1470)

SUPPLEMENTARY INFORMATION: NOAA is publishing this notice to announce webinars designed to promote conversation between federal representatives and stakeholders on a number of topics related to HABs and hypoxia, which impact human and animal health, local and regional economies, and long-term national security. The IWG-HABHRCA will consult with stakeholders on topics that include:

• Regional, Great Lakes-specific priorities for ecological, economic, and social research on the causes and impacts of HABs and hypoxia; need for improved monitoring and early warning; new approaches to improving scientific understanding, prediction and modeling, and socioeconomic analyses of these events; and mitigating causes and impacts of HABs and hypoxia;

• Communication and information dissemination methods that state, tribal, local, and international governments and organizations may undertake to educate and inform the public concerning HABs and hypoxia in the Great Lakes; and

• Perceived needs for handling Great Lakes HAB and hypoxia events, as well as an action strategy for managing future situations.

The IWG-HABHRCA was established to coordinate and convene relevant federal agencies to discuss HAB and hypoxia events in the United States, and to develop reports and assessments regarding these issues. The webinars are designed to provide stakeholders with opportunities to discuss their concerns and needs regarding HABs and hypoxia in the Great Lakes, which will help Federal agencies develop and refine action strategies for addressing these issues. While the webinars are targeted, all are welcome to join.

Stakeholders are encouraged to submit comments and questions in advance of and following each webinar, pertaining to the aforementioned topics or on other areas of concern or interest related to Great Lakes HABs and hypoxia. Electronic comments and questions may be submitted via email (IWG-HABHRCA@noaa.gov). Written comments may be submitted to Caitlin Gould at NOAA, National Centers for Coastal Ocean Science, SSMC-4, #8237, 1305 East-West Highway, Silver Spring, MD 20910.

Meeting dates:

• HAB and Hypoxia Experts, and Interested Parties—January 12, 2016, 1:00 p.m.-2:00 p.m. EST

• Interested Parties—January 13, 2016, 11:00 a.m.-12:00 p.m. EST

• Interested Parties (as needed)—January 20, 2016, 12:30 p.m.-1:30 p.m. EST

The webinars will be available at the following addresses:

• HAB and Hypoxia Experts, and Interested Parties (January 12, 2016)—

○ Go to https://fda.webex.com/fda/j.php?MTID=maf531d3ea4423d977d250e1a380cefeb

○ Password: Habsnhypoxia

○ To view in other time zones or languages, please click the link: https://fda.webex.com/fda/j.php?MTID=m1b2d6b7e615eb38b9c819ea61dd1234e_

○ To join the teleconference only:

Provide your number when you join the meeting to receive a call back.

Alternatively, you can call one of the following numbers:

• Local: 1-301-796-7777

• Toll free: 1-855-828-1770

Follow the instructions that you hear on the phone. Your Cisco Unified MeetingPlace meeting ID: 747 264 241

• Interested Parties (January 13, 2016)—

○ Go to https://fda.webex.com/fda/j.php?MTID=m02cebb22a4ea27dc11127bdd7c3dd0bd_

○ Password: Habsnhypoxia

○ To view in other time zones or languages, please click the link: https://fda.webex.com/fda/j.php?MTID=md9740352f0c09cbb307b22be4dca5739_

○ To join the teleconference only:

Provide your number when you join the meeting to receive a call back.

Alternatively, you can call one of the following numbers:

• Local: 1-301-796-7777

• Toll free: 1-855-828-1770

Follow the instructions that you hear on the phone. Your Cisco Unified MeetingPlace meeting ID: 740 105 257

• Interested Parties (as needed; January 20, 2016)—

○ Go to https://fda.webex.com/fda/j.php?MTID=m5a64b5f3a4c641c8f28973920401af14_

○ Password: Habsnhypoxia

○ To view in other time zones or languages, please click the link: https://fda.webex.com/fda/j.php?MTID=m238e1a978d950349a0af565190eb8267_

○ To join the teleconference only:

Provide your number when you join the meeting to receive a call back.

Alternatively, you can call one of the following numbers:

• Local: 1-301-796-7777

• Toll free: 1-855-828-1770

Follow the instructions that you hear on the phone. Your Cisco Unified MeetingPlace meeting ID: 744 840 269

Other Information: Persons wishing to attend the meeting online via the webinar must register in advance no later than 5 p.m. Eastern Time on the evening before each webinar, by sending an email to Caitlin.Gould@noaa.gov. The number of webinar connections available for the meetings is limited to 500 participants and will therefore be available on a first-come, first-served basis. The agenda for the webinars will include time for questions and answers or comments about the agencies' efforts in implementing HABHRCA.

Other Information

Paperwork Reduction Act: Notwithstanding any other provision of law, no person is required to respond to, nor shall any person be subject to a penalty for failure to comply with a collection of information subject to the requirements of the Paperwork Reduction Act, unless that collection displays a currently valid OMB Control Number.

Glenn Boledovich,
Chief, Policy and Constituent Affairs Division, Management and Budget Office, National Ocean Service, National Oceanic and Atmospheric Administration.

[FR Doc. 2016-00018 Filed 1-6-16; 8:45 am]

BILLING CODE 3510-JE-P